DEPARTMENT OF AGRICULTURE

Animal and Plant Health Inspection Service

9 CFR Parts 93, 94, 95, and 96

[Docket No. 03-080-3]

RIN 0579-AB73

Bovine Spongiform Encephalopathy; Minimal-Risk Regions and Importation of Commodities

Correction

In rule document 04-28593 beginning on page 460 in the issue of Tuesday, January 4, 2005, make the following corrections:

1. On page 479, in the second column, in the second paragraph, in the last line, “CAN” should read “CΛN”.

2. On page 481, in the first column, in the first paragraph, in the fifth line, “CAN” should read “CΛN”.

3. On page 498, in third column, in the last paragraph, in the 11th and 12th lines, “http://www.cfsan.fda.gov/comm/bsefaq.html” should read “http://www.cfsan.fda.gov/~comm/bsefaq.html”.

4. On page 517, in the first column, in the third paragraph, in the ninth line,“7.3 × 10-3” should read “ 7.3 × 10−³”.

[FR Doc. C4-28593 Filed 2-3-05; 8:45 am]

BILLING CODE 1505-01-D